DEPARTMENT OF COMMERCE

International Trade Administration

Michigan Technological University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW, Washington, DC.

Docket Number: 00-004. Applicant: Michigan Technological University, Houghton, MI 49931. Instrument: Automatic Thin Section Machine. Manufacturer: Dansk Beton Teknik A/S, Denmark. Intended Use: See notice at 65 FR 11986, March 7, 2000.

Comments: None received. Decision: Approved. No instrument of equivalent scientific value to the foreign instrument, for such purposes as it is intended to be used, is being manufactured in the United States. Reasons: The foreign instrument provides a horizontally mounted rotating diamond impregnated drum under which specimens are repeatedly passed on a sliding platform to minimize damage to cement and asphalt concrete thin sections for microscopic examination. The Federal Highway Administration advises that (1) this capability is pertinent to the applicant's intended purpose and (2) it knows of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-10416 Filed 4-25-00; 8:45 am]

BILLING CODE 3510-DS-P